DEPARTMENT OF COMMERCE

International Trade Administration

[A-201-820]

Final Results of Analysis of Reference Prices and Clarifications and Corrections; Agreement Suspending the Antidumping Duty Investigation on Fresh Tomatoes From Mexico

AGENCY: Import Administration, International Trade Administration, Department of Commerce.

ACTION: Notice of final results of analysis of reference prices and clarifications and corrections concerning the agreement suspending the antidumping duty investigation on fresh tomatoes from Mexico.

EFFECTIVE DATE: November 1, 2003.

SUMMARY: The current agreement suspending the antidumping duty investigation on imports of fresh tomatoes from Mexico went into effect on December 16, 2002. The Department of Commerce is publishing this notice to announce the final results of the analysis of the reference prices that it conducted pursuant to section IV.G of the agreement and to clarify and correct certain portions of the agreement.

FOR FURTHER INFORMATION CONTACT: Kristin Case or Mark Ross at (202) 482-3174 or (202) 482-4794, respectively; Office of AD/CVD Enforcement 3, Import Administration, International Trade Administration, U.S. Department of Commerce, 14th Street and Constitution Avenue, NW., Washington, DC 20230.

SUPPLEMENTARY INFORMATION:

Results of Analysis of Reference Prices

On December 4, 2002, the Department of Commerce (the Department) and certain growers/exporters of fresh tomatoes from Mexico signed a new agreement suspending the antidumping duty investigation on imports of fresh tomatoes from Mexico. See Suspension of Antidumping Investigation: Fresh Tomatoes from Mexico, 67 FR 77044 (December 16, 2002) (the 2002 Agreement). As a means of preventing price suppression or undercutting with respect to the sale of domestic tomatoes in accordance with section 734(c)(1)(A) of the Tariff Act of 1930, as amended (the Act), the 2002 Agreement provides for the implementation of reference prices below which the signatory producers/exporters agree not to sell the subject merchandise. As specified in section IV.G of the 2002 Agreement, the Department agreed to conduct an analysis of the reference prices in order to evaluate whether the 2002 Agreement fulfills the requirements of section 734(c)(1)(A) of the Act. Based on our findings, we have determined that it is appropriate to increase the reference price for the winter season (October 23 through June 30) from $0.2108 per pound to $0.2169 per pound. The reference price for the summer season (July 1 through October 22) will remain at $0.172 per pound.

The new reference price for the winter season of $0.2169 per pound is effective November 1, 2003. The new box-weight chart, which reflects a new reference price for the winter season applied to common box types that are shipped from Mexico to the United States, can be viewed at the following URL: http://www.ia.ita.doc.gov/tomato/new-agreement/documents/boxweightchart.html.

Clarifications and Corrections

After publication of the 2002 Agreement the Department received several requests for clarification and it identified certain ministerial errors in the 2002 Agreement. On May 21, 2003, the Department released proposed clarifications and corrections to interested parties and invited them to comment. The signatories of the 2002 Agreement filed comments on May 30, 2003, proposing several modifications. No other party commented on the proposed clarification and corrections.

After reviewing the comments, the Department has decided to make the following clarifications and corrections to the 2002 Agreement:

1. To correct a ministerial error in the FOR FURTHER INFORMATION CONTACT section, the telephone number for Janis Kalnins should be (202) 482-1392.

2. To correct a typographical error, the first sentence of section A.2. of Appendix B should read as follows:

When normal value is based on constructed value, the Department will compute constructed values (CVs) for each growing season based on the sum of each respondent's growing costs for each type of tomato plus amounts for selling, general, and administrative expenses (SG&A).

3. To correct a typographical error, the current URL of the website identified in the second sentence of the third paragraph of Appendix C, the last sentence of the fifth paragraph of Appendix D, the third sentence of the last paragraph of Appendix E, and the third sentence of number four of Appendix F is: http://ia.ita.doc.gov/tomato/new-agreement/documents/suggested_forms.

4. To correct a ministerial error, the third sentence of section A.2. of Appendix D should read as follows:

For purposes of this Agreement, a condition defect is any condition defect listed in the chart in part A.5. below.

5. Appendix D, section A.5. should read as follows:

Under this Agreement, adjustments to the sales price of signatory tomatoes will be permitted only for condition defects. The term “condition defect” is intended to have the same definition recognized by the Fresh Products Branch of the United States Department of Agriculture, with the exception of abnormal coloring, and, therefore, covers the following items:

Condition Defects

Sunken & Discolored Areas

Sunburn

Internal Discoloration

Freezing Injury

Chilling Injury

Gray Mold Rot

Bacterial Soft Rot

Soft/Decay ¹

¹ The most common decays listed by the USDA are pleospora rot, phoma rot, alternaria rot, and blossom end rot.

Bruising

Nailhead Spot

Skin Checks

Decayed and Moldy Stems

Waxy Blister

White Core

Discolored or Dried-out Jelly Around Seeds

6. To ensure consistency with the actual entry documentation currently used by Canadian Customs, the Department will interpret the parenthetical reference to “Landing Form” as referring to Form B3 or the Canada Customs Coding Form.

7. To correct a typographical error, the title of Appendix F should read as follows:

Appendix F—Suspension of Antidumping Investigation—Fresh Tomatoes From Mexico—Procedure Signatories Must Follow for Selling Subject Merchandise for Processing.

Dated: October 29, 2003.
James J. Jochum,
Assistant Secretary for Import Administration.

[FR Doc. 03-27695 Filed 10-31-03; 8:45 am]

BILLING CODE 3510-DS-P